DEPARTMENT OF ENERGY

Federal Energy Regulatory Commission

[Docket No. CP99-580-002]

Southern LNG Inc.; Notice of Intent To Prepare an Environmental Assessment for the Proposed Sendout Modification Project and Request for Comments on Environmental Issues

September 21, 2000.

The staff of the Federal Energy Regulatory Commission (FERC or Commission) will prepare an environmental assessment (EA) that will discuss the environmental impacts of the Sendout Modification Project involving construction and operation of facilities by Southern LNG Inc. (Southern LNG) on Elba Island in Chatham County, Georgia. ¹ The project involves limited modifications to the sendout system at Southern LNG's existing, certificated liquefied natural gas (LNG) marine import terminal (Elba Island Terminal). This EA will be used by the Commission in its decision-making process to determine whether the project is in the public convenience and necessity.

¹ Southern LNG's application was filed with the Commission under Section 7 of the Natural Gas Act and Part 157 of the Commission's regulations.

Background

In 1972, in Docket No. CP71-264, the Federal Power Commission (FERC's predecessor) authorized Southern Energy Company (Southern LNG's predecessor), to construct and operate the Elba Island Terminal. Southern LNG initiated construction in 1973. The terminal encompasses about 140 acres on the 840-acre Elba Island in an estuary of the Savannah River. Elba Island lies approximately 8 miles upstream of the river's discharge into the Atlantic Ocean and approximately 5 miles downstream from Savannah, Georgia. The existing authorized facilities at the Elba Island Terminal include the following:

• LNG unloading facilities, including marine berth, pier, and arms for unloading LNG from vessels;

• LNG storage facilities, including three double-wall storage tanks, each with the capacity of 400,000 barrels (four billion cubic feet vaporized equivalent);

• LNG sendout facilities, including pumps and vaporizers with a maximum capacity of 540 million cubic feet per day (MMcfd);

• Boil-off compressors;

• Pressure relief, vent, and disposal systems;

• Spill containment facilities, including a 400,000-barrel capacity main spill containment for each LNG storage tank; and

• Fire water system sourced from a fresh-water pond and river water.

Southern LNG commenced operation in July, 1978. Between 1978 to 1980, the Elba Island Terminal was used to import LNG purchased from El Paso Algeria Corporation and delivered by cryogenic tankers. In April, 1980, Southern LNG was unable to continue importation of LNG due to economic considerations. After LNG shipments were discontinued, Southern LNG retained an inventory of LNG through April, 1982.

Since 1982, the Elba Island Terminal has been maintained in a limited state of readiness to ensure that the plant could be safely and reliably reactivated. An ongoing preventative maintenance program has been in place since that time and needed repairs, replacements, enhancements and additions have been identified for implementing during the recommissioning process.

On July 13, 1999, Southern LNG filed an application with the Commission in Docket No. CP99-580-000, to recommission the Elba Island Terminal for the purpose of providing open-access service to shippers desiring to contract for receipt, storage, and vaporization of LNG and delivery of vaporized LNG at the existing point of interconnect with the interstate pipeline of Southern Natural. The project involved returning Southern LNG's existing, certificated Elba Island Terminal to active service. Southern LNG stated that the storage and vaporization facilities would not be significantly altered, replaced or relocated, and that the storage and throughput capacity of the facilities would remain the same as originally placed in service in 1978.

In addition, in Docket No. CP99-579-000, Southern LNG requested Section 3 authorization under Subpart B of Part 153 of the Commission's regulations for siting of natural gas import facilities. This application was directly related to Southern LNG's proposal described above in Docket No. CP99-580-000.

On August 9, 1999, we ² issued a Notice of Intent to Prepare an Environmental Assessment for the Proposed Elba Island Terminal Recommissioning Project and Request for Comments on Environmental Issues. On January 10, 2000, we issued a Notice of Availability of the Environmental Assessment for the Proposed Elba Island Terminal Recommissioning Project. On March 16, 2000, the Commission issued an Order Issuing Certificate, Section 3 Authorization, and Denying Request for Rehearing (Order).

² “We,” “us,” and “our” refer to the environmental staff of the Office of Energy Projects.

Summary of the Proposed Project

Southern LNG proposes to amend the authorizations issued in the Commission's March 16, 2000 Order. Southern LNG proposes limited modifications to the sendout system at the Elba Island Terminal. The sendout modifications would increase the peak vaporization from 540 MMcfd to 675 MMcfd and allow control of the heating value of vaporized LNG. The sendout modifications are required to enhance the flexibility and reliability of firm service by enabling the terminal to import LNG from various foreign production areas. These LNG supplies may have varying heating values, which may exceed the maximum in Southern LNG's tariff of 1,075 British thermal units per standard cubic foot (Btu/scf). The location of the project facilities is shown in appendix 1.³

³ The appendices referenced in this notice are not being printed in the Federal Register. Copies are available from the Commission's Public Reference and Files Maintenance Branch, 888 First Street, NE., Washington, DC 20426, or call (202) 208-1371. Copies of the appendices were sent to all those receiving this notice in the mail.

The Sendout Modifications Project would include the following:

• Replacement of the existing five 108 MMcfd Ryan Industries LNG submerged combustion vaporizers with five 135 MMcfd state-of-the-art submerged combustion water bath heaters;

• Install an additional secondary LNG pump to supply additional LNG for the increased capacity of the vaporizers; and

• Install nitrogen or air injection facilities to control heating value of vaporized LNG. Injection of 2 percent nitrogen or 3.8 percent air into the sendout stream would allow receipt of LNG with a heating value of 1,090 or 1,117 Btu/scf, respectively.

Land Requirements for Construction

No additional land would be required by Southern LNG's proposal. All work would occur within previously disturbed and currently maintained areas. None of the proposed facilities would result in substantial changes to the appearance or previous function of the existing facilities.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• Geology and soils

• Water resources, fisheries, and wetlands

• Vegetation and wildlife

• Endangered and threatened species

• Land use

• Cultural resources

• Air Quality and noise

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426;

• Label one copy of the comments for the attention of the Gas Group I, PJ-11.1;

• Reference Docket No. CP99-580-002; and

• Mail your comments so that they will be received in Washington, DC on or before October 23, 2000.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-24764 Filed 9-26-00; 8:45 am]

BILLING CODE 6717-01-M